DEPARTMENT OF AGRICULTURE

Forest Service

Northern New Mexico Resource Advisory Committee Meeting

AGENCY: Forest Service, USDA.

ACTION: Notice of meeting.

SUMMARY: The Northern New Mexico Resource Advisory Committee will meet in Albuquerque, New Mexico. The committee is meeting as authorized under the Secure Rural Schools and Community Self-Determination Act of 2000 (Pub. L. 110-343) and in compliance with the Federal Advisory Committee Act (5 U.S.C. Appendix 2 §§ 1-15, October 6, 1972, as amended 1976, 1980 and 1982). The purpose is to review and approve RFP and Title II Project Submission Form, discuss monitoring of Projects, discuss and determine means of distribution of RFP, review timelines and set next meeting date, RAC costs to date.

DATES: The meeting will be held on August 17, 2010, beginning at 10 a.m. and ending at 4 p.m.

ADDRESSES: The meeting will be held at the Forest Service Southwestern Regional Office at 333 Broadway SE in the basement conference room, Albuquerque, New Mexico. Written comments should be sent to Ignacio Peralta, Carson National Forest, 208 Cruz Alta Road, Taos, NM 87571. Comments may also be sent via e-mail to iperalta@fs.fed.us or via facsimile to 575-758-6213.

All comments, including names and addresses when provided, are placed in the record and are available for public inspection and copying. The public may inspect comments received at Carson National Forest, 208 Cruz Alta Road, Taos, NM. Visitors are encouraged to call ahead to 575-758-6344 to facilitate entry into the building.

FOR FURTHER INFORMATION CONTACT: RAC Coordinator USDA, Carson National Forest: Ignacio Peralta, 575-758-6344, 208 Cruz Alta Rd., Taos, NM 87571. E-mail: iperalta@fs.fed.us. RAC Coordinator, USDA, Santa Fe National Forest: Ruben Montes, 505-438-5356, 11 Forest Lane, Santa Fe, NM 87508. E-mail: rmontes@fs.fed.us.

Individuals who use tele­com­mu­nica­tion devices for the deaf (TDD) may call the Federal Information Relay Service (FIRS) at 1-800-877-8339 between 8 a.m. and 8 p.m., Eastern Standard Time, Monday through Friday.

SUPPLEMENTARY INFORMATION: The meeting is open to the public. The following business will be conducted: (1) Review and approve RFP and Title II Project Submission Form. (2) Discuss monitoring of Projects. (3) Discuss and determine means of distribution of RFP. (4) Review timelines and set next meeting date. (5) RAC costs to date. (6) Public Comment. Persons who wish to bring related matters to the attention of the Committee may file written statements with the Committee staff before or after the meeting.

Dated: July 30, 2010.
Kendall Clark,
Forest Supervisor, Carson National Forest.

[FR Doc. 2010-19205 Filed 8-4-10; 8:45 am]

BILLING CODE 3410-11-P